DEPARTMENT OF COMMERCE

National Oceanic and Atmospheric Administration

50 CFR Part 679

[Docket No. 060216044-6044-01; I.D. 112805A]

Fisheries of the Exclusive Economic Zone Off Alaska; Gulf of Alaska; Final 2006 and 2007 Harvest Specifications for Groundfish

AGENCY: National Marine Fisheries Service (NMFS), National Oceanic and Atmospheric Administration (NOAA), Commerce.

ACTION: Final rule; closures.

SUMMARY: NMFS announces final 2006 and 2007 harvest specifications, reserves and apportionments thereof, Pacific halibut prohibited species catch (PSC) limits, and associated management measures for the groundfish fishery of the Gulf of Alaska (GOA). This action is necessary to establish harvest limits and associated management measures for groundfish during the 2006 and 2007 fishing years and to accomplish the goals and objectives of the Fishery Management Plan for Groundfish of the Gulf of Alaska (FMP). The intended effect of this action is to conserve and manage the groundfish resources in the GOA in accordance with the Magnuson-Stevens Fishery Conservation and Management Act (Magnuson-Stevens Act).

DATES: The final 2006 and 2007 harvest specifications and associated management measures are effective at 1200 hrs, Alaska local time (A.l.t.), March 3, 2006, through 2400 hrs, A.l.t., December 31, 2007.

ADDRESSES: Copies of the Final Environmental Assessment (EA) and Final Regulatory Flexibility Analysis (FRFA) prepared for this action are available from Alaska Region, NMFS, P.O. Box 21668, Juneau, AK 99802, Attn: Records Officer or from the Alaska Region Web site at http://www.fakr.noaa.gov. Copies of the 2005 Stock Assessment and Fishery Evaluation (SAFE) report for the groundfish resources of the GOA, dated November 2005, are available from the North Pacific Fishery Management Council (Council), West 4th Avenue, Suite 306, Anchorage, AK 99510-2252 (907-271-2809) or from its Web site at http://www.fakr.noaa.gov/npfmc.

FOR FURTHER INFORMATION CONTACT: Tom Pearson, Sustainable Fisheries Division, Alaska Region, 907-481-1780, or e-mail at tom.pearson@noaa.gov.

SUPPLEMENTARY INFORMATION: NMFS manages the GOA groundfish fisheries in the exclusive economic zone (EEZ) of the GOA under the FMP. The Council prepared the FMP under the authority of the Magnuson-Stevens Act, 16 U.S.C. 1801, et seq. Regulations governing U.S. fisheries and implementing the FMP appear at 50 CFR parts 600, 679, and 680.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut PSC amounts, and seasonal allowances of pollock and inshore/offshore Pacific cod. The final harvest specifications in Tables 1 through 18 of this document satisfy these requirements. For 2006, the sum of the TAC amounts is 291,950 mt. For 2007, the sum of the TAC amounts is 257,772 mt.

The proposed 2006 and 2007 harvest specifications and Pacific halibut PSC allowances for the GOA were published in the Federal Register on December 16, 2005 (70 FR 74739). Comments were invited and accepted through January 17, 2006. NMFS received 1 letter with several comments on the proposed harvest specifications. These comments are summarized and responded to in the Response to Comments section. In December 2005, NMFS consulted with the Council regarding the 2006 and 2007 harvest specifications. After considering public comments received, as well as biological and economic data that were available at the Council's December 2005 meeting, NMFS is implementing the final 2006 and 2007 harvest specifications, as recommended by the Council, with the exception of pollock as described below.

Acceptable Biological Catch (ABC) and TAC Specifications

In December 2005, the Council, its Advisory Panel (AP), and its Scientific and Statistical Committee (SSC), reviewed current biological and harvest information about the condition of groundfish stocks in the GOA. This information was compiled by the Council's GOA Plan Team and was presented in the 2005 SAFE report for the GOA groundfish fisheries, dated November 2005 (see ADDRESSES). The SAFE report contains a review of the latest scientific analyses and estimates of each species' biomass and other biological parameters, as well as summaries of the available information on the GOA ecosystem and the economic condition of the groundfish fisheries off Alaska. From these data and analyses, the Plan Team estimates an ABC for each species or species category.

The final ABC levels are based on the best available biological and socioeconomic information, including projected biomass trends, information on assumed distribution of stock biomass, and revised methods used to calculate stock biomass. The FMP specifies the formulas, or tiers, to be used in computing ABCs and overfishing levels (OFLs). The formulas applicable to a particular stock or stock complex are determined by the level of reliable information available to fisheries scientists. This information is categorized into a successive series of six tiers with tier one representing the highest level of information and tier six the lowest level of information.

The final TAC recommendations were based on the ABCs as adjusted for other biological and socioeconomic considerations, including maintaining the total TAC within the required OY range of 116,000 to 800,000 mt. The Council adopted the AP's TAC recommendations. The Council recommended TACs for 2006 and 2007 that are equal to ABCs for pollock, deep-water flatfish, rex sole, sablefish, Pacific ocean perch, shortraker rockfish, rougheye rockfish, northern rockfish, pelagic shelf rockfish, thornyhead rockfish, demersal shelf rockfish, big skate, longnose skate, and other skates. The Council recommended TACs that are less than the ABCs for Pacific cod, flathead sole, shallow-water flatfish, arrowtooth flounder, other rockfish, and Atka mackerel. None of the Council's recommended TACs for 2006 and 2007 exceeds the final ABC for any species or species category. NMFS finds that the recommended ABCs and TACs are consistent with the biological condition of the groundfish stocks as described in the 2005 SAFE report and approved by the Council. The apportionment of TAC amounts among gear types, processing sectors, and seasons is discussed below.

NMFS finds that the Council's recommendations for OFL, ABC, and TAC amounts are consistent with the biological condition of groundfish stocks as adjusted for other biological and socioeconomic considerations, including maintaining the total TAC within the required OY range. NMFS reviewed the Council's recommended TAC specifications and apportionments and approves these specifications under § 679.20(c)(3)(ii).

Tables 1 and 2 list the final 2006 and 2007 OFLs, ABCs, TACs, and area apportionments of groundfish in the GOA. The sum of 2006 and of 2007 groundfish ABCs are 500,626 and 472,260 mt respectively, which are lower than the 2005 ABC total of 539,263 mt (70 FR 8958, February 24, 2005).

Specification and Apportionment of TAC Amounts

As in 2005, the SSC and Council recommended that the method of apportioning the sablefish ABC among management areas in 2006 and 2007 include commercial fishery and survey data. NMFS stock assessment scientists believe that the use of unbiased commercial fishery data reflecting catch-per-unit effort provides a desirable input for stock distribution assessments. The use of commercial fishery data is evaluated annually to ensure that unbiased information is included in stock distribution models. The Council's recommendation for sablefish area apportionments also takes into account the prohibition on the use of trawl gear in the Southeast Outside (SEO) District of the Eastern Regulatory Area and makes available 5 percent of the combined Eastern Regulatory Area ABCs to trawl gear for use as incidental catch in other directed groundfish fisheries in the West Yakutat District (§ 679.20(a)(4)(i)).

Since the inception of a State managed pollock fishery in Prince William Sound (PWS) the GOA Plan Team has recommended that the guideline harvest level (GHL) for the pollock fishery in PWS be deducted from the ABC for the western stock of pollock in the GOA in the Western/Central/West Yakutat (W/C/WYK) Area. The Plan Team based its pollock ABC recommendation for the W/C/WYK Area on a pollock GHL for the PWS of 910 mt. Following the Council's December 2005 meeting the Alaska Department of Fish and Game (ADF&G) completed a new assessment of the pollock biomass in PWS. In a news release dated December 28, 2005, ADF&G announced a GHL of 3.64 million pounds (1,650 mt) for the 2006 PWS pollock fishery, a difference of 740 mt for the GHL already considered. NMFS is reducing the 2006 and 2007 ABCs for the pollock fishery in the W/C/WYK Area by 740 mt from the Council's recommendation to be consistent with the conservation and management policies for pollock in the W/C/WYK. The Council recommended that the TAC for pollock in the W/C/WYK Area be set equal to the ABC, therefore, NMFS is reducing the 2006 and 2007 TACs for pollock in the W/C/WYK Area by 740 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: The A season (January 20 through March 10), the B season (March 10 through May 31), the C season (August 25 through October 1), and the D season (October 1 through November 1) (§§ 673.23(d)(2)(i) through (iv) and 679.20(a)(5)(iii)(B)).

The SSC, AP, and Council adopted the Plan Team's ABC recommendations for all groundfish species categories, except for Pacific cod in 2006. The SSC disagreed with the Plan Team's maximum permissible ABC recommendation of 79,618 mt based on conservation concerns. In particular, the SSC did not feel comfortable with the large implied increase in fishing mortality because of concerns over the new maturity schedule, a series of low recruitments between 2001 and 2004, and limited experience with the new model used for the Pacific cod assessment. For these reasons, the SSC recommended a stair-step approach to the maximum permissible ABC in 2006 resulting in an ABC recommendation of 68,859 mt. The final 2006 and 2007 ABCs, recommended by the Council and amended by NMFS, are listed in Tables 1 and 2.

The AP, SSC, and Council recommended that the ABC for Pacific cod in the GOA be apportioned among regulatory areas based on the three most recent NMFS' summer trawl surveys. As in previous years, the Plan Team, AP, SSC, and Council recommended that total removals of Pacific cod from the GOA not exceed ABC recommendations. Accordingly, the Council recommended that the 2006 and 2007 TACs be adjusted downward from the ABCs by amounts equal to the 2006 GHLs established for Pacific cod by the State of Alaska (State) for fisheries that occur in State waters in the GOA. The effect of the State's GHLs on the Pacific cod TAC is discussed in greater detail below. As in 2005, NMFS will establish for 2006 and 2007 an A season directed fishing allowance (DFA) for the Pacific cod fisheries in the GOA based on the management area TACs less the recent average A season incidental catch of Pacific cod in each management area before June 10 (§ 679.20(d)(1)). The DFA and incidental catch before June 10 will be managed such that total harvest in the A season will be no more than 60 percent of the annual TAC. Incidental catch taken after June 10 will continue to be taken from the B season TAC. This action meets the intent of the Steller Sea Lion Protection Measures by achieving temporal dispersion of the Pacific cod removals and by reducing the likelihood of harvest exceeding 60 percent of the annual TAC in the A season (January 1 through June 10).

The 2006 and 2007 Pacific cod TACs are affected by the State's developing fishery for Pacific cod in State waters in the Central and Western Regulatory Areas, as well as in PWS. The SSC, AP, and Council recommended that the sum of all State and Federal water Pacific cod removals not exceed the ABC. Accordingly, the Council recommended the 2006 and 2007 Pacific cod TACs be reduced from ABC levels to account for State GHLs in each regulatory area of the GOA. Therefore, the 2006 TACs are reduced from ABCs as follows: (1) Eastern GOA, 413 mt; (2) Central GOA, 9,468 mt; and (3) Western GOA, 6,714 mt. Similarly, the 2007 TACs are reduced from ABCs as follows: (1) Eastern GOA, 297 mt; (2) Central GOA, 6,801 mt; and (3) Western GOA, 4,823 mt. These amounts reflect the sum of the State's 2006 GHLs in these areas, which are 10 percent, 25 percent, and 25 percent of the Eastern, Central, and Western GOA ABCs, respectively. The percentages of ABC used to calculate the GHLs for the State managed Pacific cod fisheries are unchanged from 2005.

NMFS also is establishing seasonal apportionments of the annual Pacific cod TAC in the Western and Central Regulatory Areas. Sixty percent of the annual TAC is apportioned to the A season for hook-and-line, pot and jig gear from January 1 through June 10, and for trawl gear from January 20 through June 10. Forty percent of the annual TAC is apportioned to the B season for hook-and-line, pot and jig gear from September 1 through December 31, and for trawl gear from September 1 through November 1 (§§ 679.23(d)(3) and 679.20(a)(11)). These seasonal apportionments of the annual Pacific cod TAC are discussed in greater detail below.

The FMP specifies that the TAC amount for the “other species” category is calculated as 5 percent of the combined TAC amounts for target species. The 2006 GOA-wide “other species” TAC is 13,856 mt, and the 2007 TAC is 12,229 mt, which is 5 percent of the sum of the combined TAC amounts (278,094 mt for 2006 and 245,543 mt for 2007) for the target species. The sum of the TACs for all GOA groundfish is 291,950 mt for 2006 and 257,772 mt for 2007, which is within the OY range specified by the FMP. The sums of the 2006 and 2007 TACs are higher in 2006 and lower in 2007 than the 2005 TAC sum of 291,298 mt (70 FR 8958, February 24, 2005).

In June 2005, the Council selected its preferred alternative for Amendment 69 to the GOA FMP to revise the manner in which the “other species” complex TAC is annually established. If approved, Amendment 69 would allow the Council, as part of its annual harvest specification process, to recommend a TAC amount for the “other species” less than or equal to 5 percent of the sum of the combined TAC amounts for target species. The intent of Amendment 69 is to better conserve and manage the species which comprise the “other species” complex. NMFS published a Notice of Availability (NOA) for Amendment 69 in the Federal Register on November 16, 2005 (70 FR 69505) and a proposed rule to implement Amendment 69 in the Federal Register on November 29, 2005 (70 FR 71450). Comments on the NOA were invited through January 17, 2006, and comments on the proposed rule were invited through January 13, 2006. Copies of Amendment 69, the EA/RIR/IRFA prepared for the amendment, and the proposed rule may be obtained from NMFS, Alaska Region or from its Web site (see ADDRESSES). In December 2005, the Council recommended that if Amendment 69 receives Secretarial approval, then the TAC for the “other species” complex should be amended to 4,500 mt in 2006 and 2007. This amount would meet the incidental catch needs in the other directed groundfish and halibut fisheries while allowing for a limited directed fishery of approximately 500 mt.

At its June 2005 meeting, the Council selected a preferred pilot program alternative to rationalize the Central GOA rockfish fishery. The program was developed by the Council under the authority of the Consolidated Appropriations Act of 2004. If approved by the Secretary, the Central GOA Rockfish Pilot Program would allocate rockfish, associated groundfish, halibut PSC limits, and groundfish sideboard limits to a specific group of eligible harvesters in 2007. These amounts are expected to be identified in September 2006 and would modify the harvest specifications for 2007.

Changes From the Proposed 2006 and 2007 Harvest Specifications for the GOA

In October 2005, the Council's recommendations for the proposed 2006 and 2007 harvest specifications (70 FR 74739, December 16, 2005) were based largely on information contained in the 2004 SAFE report for the GOA groundfish fisheries, dated November 2004. The Council recommended that the 2006 and 2007 OFLs and ABCs for stocks in tiers 1 through 3 be based on biomass projections as set forth in the 2004 SAFE report and estimates of groundfish harvests through the 2006 and 2007 fishing years. For stocks in tiers 4 through 6, for which projections could not be made, the Council recommended that OFL and ABC levels be unchanged from 2005 until the 2005 SAFE report could be completed.

The 2005 SAFE report (dated November 2005), which was not available when the Council made its recommendations in October 2005, contains the best and most recent scientific information on the condition of the groundfish stocks. This report was considered in December 2005 by the Council when it made its recommendations for the final 2006 and 2007 harvest specifications. Based on the 2005 SAFE report, the sum of the 2006 recommended final TACs for the GOA (291,950 mt) is 9,354 mt less than the proposed sum of TACs (301,304 mt). The largest 2006 increases occurred for Pacific cod, from 42,128 mt to 52,264 mt (24 percent increase); deep water flatfish, from 6,820 mt to 8,665 mt (27 percent increase), other rockfish, from 670 mt to 1,480 mt (121 percent increase), pelagic shelf rockfish, from 4,415 mt to 5,436 mt (23 percent increase) and for Atka mackerel, from 600 mt to 1,500 mt (150 percent increase). The largest decreases occurred for pollock, from 105,220 mt to 85,807 mt (18 percent decrease) and for rex sole, from 12,650 mt to 9,200 mt (27 percent decrease). Other increases or decreases in both 2006 and 2007 are within these ranges.

Compared to the proposed 2006 and 2007 harvest specifications, the Council's final 2006 and 2007 TAC recommendations increase fishing opportunities for species for which the Council had sufficient information to raise TAC levels. These include, Pacific cod, deep water flatfish, other rockfish, northern rockfish, Pacific ocean perch, shortraker rockfish, thornyhead rockfish, longnose and other skates, and Atka mackerel. Conversely, the Council reduced TAC levels to provide greater protection for several species; these include pollock, rex sole, flathead sole, shallow water flatfish, sablefish, rougheye rockfish, and big skates. The changes recommended by the Council for the 2006 and 2007 fishing years were based on the best scientific information available, consistent with National Standard 2 of the Magnuson-Stevens Act, and within a reasonable range of variation from the proposed TAC recommendations so that the affected public was fairly apprised and could have made meaningful comments based on the proposed harvest specifications.

Table 1.—Final 2006 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Totals | Species | Area ¹ | ABC | TAC | Overfishing level
| Pollock ² | Shumagin (610) | 28,918 | 28,918 | n/a
|  | Chirikof (620) | 30,492 | 30,492 | n/a
|  | Kodiak (630) | 18,448 | 18,448 | n/a
|  | WYK (640) | 1,792 | 1,792 | n/a
Subtotal |  | W/C/WYK | 79,650 | 79,650 | 110,100
|  | SEO (650) | 6,157 | 6,157 | 8,209
Total |  |  | 86,807 | 86,807 | 118,309
| Pacific cod ³ | W | 26,855 | 20,141 | n/a
|  | C | 37,873 | 28,405 | n/a
|  | E | 4,131 | 3,718 | n/a
Total |  |  | 68,859 | 52,264 | 95,500
| Flatfish ⁴ (deep-water) | W | 420 | 420 | n/a
|  | C | 4,139 | 4,139 | n/a
|  | WYK | 2,661 | 2,661 | n/a
|  | SEO | 1,445 | 1,445 | n/a
Total |  |  | 8,665 | 8,665 | 11,008
| Rex sole | W | 1,159 | 1,159 | n/a
|  | C | 5,506 | 5,506 | n/a
|  | WYK | 1,049 | 1,049 | n/a
|  | SEO | 1,486 | 1,486 | n/a
Total |  |  | 9,200 | 9,200 | 12,000
| Flathead sole | W | 10,548 | 2,000 | n/a
|  | C | 25,195 | 5,000 | n/a
|  | WYK | 2,022 | 2,022 | n/a
|  | SEO | 55 | 55 | n/a
Total |  |  | 37,820 | 9,077 | 47,003
| Flatfish ⁵ (shallow-water) | W | 24,720 | 4,500 | n/a
|  | C | 24,258 | 13,000 | n/a
|  | WYK | 628 | 628 | n/a
|  | SEO | 1,844 | 1,844 | n/a
Total |  |  | 51,450 | 19,972 | 62,418
| Arrowtooth flounder | W | 20,154 | 8,000 | n/a
|  | C | 134,906 | 25,000 | n/a
|  | WYK | 15,954 | 2,500 | n/a
|  | SEO | 6,830 | 2,500 | n/a
Total |  |  | 177,844 | 38,000 | 207,678
| Sablefish ⁶ | W | 2,670 | 2,670 | n/a
|  | C | 6,370 | 6,370 | n/a
|  | WYK | 2,280 | 2,280 | n/a
|  | SEO | 3,520 | 3,520 | n/a
Subtotal |  | E | 5,800 | 5,800 | n/a
Total |  |  | 14,840 | 14,840 | 17,880
| Pacific ocean perch ⁷ | W | 4,155 | 4,155 | 4,931
|  | C | 7,418 | 7,418 | 8,806
|  | WYK | 1,101 | 1,101 | n/a
|  | SEO | 1,587 | 1,587 | n/a
Subtotal |  | E | 2,688 | 2,688 | 3,190
Total |  |  | 14,261 | 14,261 | 16,927
| Shortraker rockfish ⁸ | W | 153 | 153 | n/a
|  | C | 353 | 353 | n/a
|  | E | 337 | 337 | n/a
Total |  |  | 843 | 843 | 1,124
| Rougheye rockfish ⁹ | W | 136 | 136 | n/a
|  | C | 608 | 608 | n/a
|  | E | 239 | 239 | n/a
Total |  |  | 983 | 983 | 1,180
| Other rockfish ¹⁰ ¹¹ | W | 577 | 577 | n/a
|  | C | 386 | 386 | n/a
|  | WYK | 317 | 317 | n/a
|  | SEO | 2,872 | 200 | n/a
Total |  |  | 4,152 | 1,480 | 5,394
| Northern rockfish ¹¹ ¹² | W | 1,483 | 1,483 | n/a
|  | C | 3,608 | 3,608 | n/a
|  | E | 0 | 0 | n/a
Total |  |  | 5,091 | 5,091 | 7,673
| Pelagic shelf rockfish ¹³ | W | 1,438 | 1,438 | n/a
|  | C | 3,262 | 3,262 | n/a
|  | WYK | 301 | 301 | n/a
|  | SEO | 435 | 435 | n/a
Total |  |  | 5,436 | 5,436 | 6,662
| Thornyhead rockfish | W | 513 | 513 | n/a
|  | C | 989 | 989 | n/a
|  | E | 707 | 707 | n/a
Total |  |  | 2,209 | 2,209 | 2,945
| Big skates ¹⁴ | W | 695 | 695 | n/a
|  | C | 2,250 | 2,250 | n/a
|  | E | 599 | 599 | n/a
Total |  |  | 3,544 | 3,544 | 4,726
| Longnose skates ¹⁵ | W | 65 | 65 | n/a
|  | C | 1,969 | 1,969 | n/a
|  | E | 861 | 861 | n/a
Total |  |  | 2,895 | 2,895 | 3,860
| Other skates ¹⁶ | GW | 1,617 | 1,617 | 2,156
| Demersal shelf rockfish ¹⁸ | SEO | 410 | 410 | 650
| Atka mackerel | GW | 4,700 | 1,500 | 6,200
| Other GW species ¹⁷ ¹⁹ | GW | n/a | 13,856 | n/a
TOTAL ²⁰ |  |  | 500,626 | 291,950 | 631,293
¹ Regulatory areas and districts are defined at § 679.2.
² Pollock is apportioned in the Western/Central Regulatory Areas among three statistical areas. During the A season, the apportionment is based on an adjusted estimate of the relative distribution of pollock biomass of approximately 22 percent, 57 percent, and 21 percent in Statistical Areas 610, 620, and 630, respectively. During the B season, the apportionment is based on the relative distribution of pollock biomass at 22 percent, 69 percent, and 9 percent in Statistical Areas 610, 620, and 630, respectively. During the C and D seasons, the apportionment is based on the relative distribution of pollock biomass at 53 percent, 15 percent, and 32 percent in Statistical Areas 610, 620, and 630, respectively. These seasonal apportionments for 2006 and 2007 are shown in Tables 5 and 6. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC for 2006 and 2007 are shown in Tables 7 and 8.
⁴ “Deep water flatfish” means Dover sole, Greenland turbot, and deepsea sole.
⁵ “Shallow water flatfish” means flatfish not including “deep water flatfish”, flathead sole, rex sole, or arrowtooth flounder.
⁶ Sablefish is allocated to trawl and hook-and-line gears for 2006 and to trawl gear in 2007 these amounts are shown in Tables 3 and 4.
⁷ “Pacific ocean perch” means Sebastes alutus.
⁸ “Shortraker rockfish” means Sebastes borealis.
⁹ “Rougheye rockfish” means Sebastes aleutianus.
¹⁰ “Other rockfish” in the Western and Central Regulatory Areas and in the West Yakutat District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ N/A means not applicable.
¹⁸ “Demersal shelf rockfish” means Sebastes pinniger (canary), S. nebulosus (china), S. caurinus (copper), S. maliger (quillback), S. helvomaculatus (rosethorn), S. nigrocinctus (tiger), and S. ruberrimus (yelloweye).
¹⁹ “Other species” means sculpins, sharks, squid, and octopus. There is no OFL or ABC for “other species”, the TAC for “other species” equals 5 percent of the TACs for assessed target species.
²⁰ The total ABC and OFL is the sum of the ABCs and OFLs for assessed target species.

Table 2.—Final 2007 ABCs, TACs, and Overfishing Levels of Groundfish for the Western/Central/West Yakutat (W/C/WYK), Western (W), Central (C) Eastern (E) Regulatory Areas, and in the West Yakutat (WYK), Southeast Outside (SEO), and Gulfwide (GW) Districts of the Gulf of Alaska
[Values are rounded to the nearest metric ton]
Total | Species | Area¹ | ABC | TAC | Overfishing level
| Pollock ² | Shumagin (610) | 23,022 | 23,022 | n/a
|  | Chirikof (620) | 24,275 | 24,275 | n/a
|  | Kodiak (630) | 14,687 | 14,687 | n/a
|  | WYK (640) | 1,426 | 1,426 | n/a
Subtotal |  | W/C/WYK | 63,410 | 63,410 | 89,500
|  | SEO (650) | 6,157 | 6,157 | 8,209
Total |  |  | 69,567 | 69,567 | 97,709
| Pacific cod ³ | W | 19,292 | 14,469 | n/a
|  | C | 27,206 | 20,405 | n/a
|  | E | 2,968 | 2,671 | n/a
Total |  |  | 49,466 | 37,545 | 59,100
| Flatfish ⁴ (deep-water) | W | 421 | 421 | n/a
|  | C | 4,145 | 4,145 | n/a
|  | WYK | 2,665 | 2,665 | n/a
|  | SEO | 1,446 | 1,446 | n/a
Total |  |  | 8,677 | 8,677 | 11,022
| Rex sole | W | 1,096 | 1,096 | n/a
|  | C | 5,207 | 5,207 | n/a
|  | WYK | 992 | 992 | n/a
|  | SEO | 1,405 | 1,405 | n/a
Total |  |  | 8,700 | 8,700 | 11,400
| Flathead sole | W | 10,932 | 2,000 | n/a
|  | C | 26,111 | 5,000 | n/a
|  | WYK | 2,096 | 2,096 | n/a
|  | SEO | 57 | 57 | n/a
Total |  |  | 39,196 | 9,153 | 48,763
| Flatfish ⁵ (shallow-water) | W | 24,720 | 4,500 | n/a
|  | C | 27,258 | 13,000 | n/a
|  | WYK | 628 | 628 | n/a
|  | SEO | 1,844 | 1,844 | n/a
Total |  |  | 51,450 | 19,972 | 62,418
| Arrowtooth flounder | W | 21,011 | 8,000 | n/a
|  | C | 140,640 | 25,000 | n/a
|  | WYK | 16,632 | 2,500 | n/a
|  | SEO | 7,120 | 2,500 | n/a
Total |  |  | 185,403 | 38,000 | 216,500
| Sablefish ⁶ | W | 2,360 | 2,360 | n/a
|  | C | 5,630 | 5,630 | n/a
|  | WYK | 2,014 | 2,014 | n/a
|  | SEO | 3,116 | 3,116 | n/a
Subtotal |  | E | 5,130 | 5130 | n/a
Total |  |  | 13,120 | 13,120 | 15,800
| Pacific ocean perch ⁷ | W | 4,290 | 4,290 | 4,997
|  | C | 7,660 | 7,660 | 8,923
|  | WYK | 1,137 | 1,137 | n/a
|  | SEO | 1,639 | 1,639 | n/a
Subtotal |  | E |  |  | 3,232
Total |  |  | 14,726 | 14,726 | 17,152
| Shortraker rockfish ⁸ | W | 153 | 153 | n/a
|  | C | 353 | 353 | n/a
|  | E | 337 | 337 | n/a
Total |  |  | 843 | 843 | 1,124
| Rougheye rockfish ⁹ | W | 133 | 133 | n/a
|  | C | 596 | 596 | n/a
|  | E | 235 | 235 | n/a
Total |  |  | 964 | 964 | 1,161
| Other rockfish ¹⁰ ¹¹ | W | 577 | 577 | n/a
|  | C | 386 | 386 | n/a
|  | WYK | 317 | 317 | n/a
|  | SEO | 2,872 | 200 | n/a
Total |  |  | 4,152 | 1,480 | 5,394
| Northern rockfish ¹¹ ¹² | W | 1,483 | 1,483 | n/a
|  | C | 3,608 | 3,608 | n/a
|  | E | 0 | 0 | n/a
Total |  |  | 5,091 | 5,091 | 7,618
| Pelagic shelf rockfish ¹³ | W | 1,463 | 1,463 | n/a
|  | C | 3,318 | 3,318 | n/a
|  | WYK | 306 | 306 | n/a
|  | SEO | 443 | 443 | n/a
Total |  |  | 5,530 | 5,530 | 6,779
| Thornyhead rockfish | W | 513 | 513 | n/a
|  | C | 989 | 989 | n/a
|  | E | 707 | 707 | n/a
Total |  |  | 2,209 | 2,209 | 2,945
| Big skates ¹⁴ | W | 695 | 695 | n/a
|  | C | 2,250 | 2,250 | n/a
|  | E | 599 | 599 | n/a
Total |  |  | 3,544 | 3,544 | 4,726
| Longnose skates ¹⁵ | W | 65 | 65 | n/a
|  | C | 1,969 | 1,969 | n/a
|  | E | 861 | 861 | n/a
Total |  |  | 2,895 | 2,895 | 3,860
| Other skates ¹⁶ | GW | 1,617 | 1,617 | 2,156
| Demersal shelf rockfish ¹⁸ | SEO | 410 | 410 | 650
| Atka mackerel | GW | 4,700 | 1,500 | 6,200
| Other species ¹⁷ ¹⁹ | GW | n/a | 12,229 | n/a
Total²⁰ |  |  | 472,260 | 257,772 | 582,477
¹ Regulatory areas and districts are defined at § 679.2.
² Pollock is apportioned in the Western/Central Regulatory Areas among three statistical areas. During the A season, the apportionment is based on an adjusted estimate of the relative distribution of pollock biomass of approximately 22 percent, 57 percent, and 21 percent in Statistical Areas 610, 620, and 630, respectively. During the B season, the apportionment is based on the relative distribution of pollock biomass at 22 percent, 69 percent, and 9 percent in Statistical Areas 610, 620, and 630, respectively. During the C and D seasons, the apportionment is based on the relative distribution of pollock biomass at 53 percent, 15 percent, and 32 percent in Statistical Areas 610, 620, and 630, respectively. These seasonal apportionments for 2006 and 2007 are shown in Tables 5 and 6. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC for 2006 and 2007 are shown in Tables 7 and 8.
⁴ “Deep water flatfish” means Dover sole, Greenland turbot, and deepsea sole.
⁵ “Shallow water flatfish” means flatfish not including “deep water flatfish”, flathead sole, rex sole, or arrowtooth flounder.
⁶ Sablefish is allocated to trawl and hook-and-line gears for 2006 and to trawl gear in 2007 these amounts are shown in Tables 3 and 4.
⁷ “Pacific ocean perch” means Sebastes alutus.
⁸ “Shortraker rockfish” means Sebastes borealis.
⁹ “Rougheye rockfish” means Sebastes aleutianus.
¹⁰ “Other rockfish” in the Western and Central Regulatory Areas and in the West Yakutat District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ N/A means not applicable.
¹⁸ “Demersal shelf rockfish” means Sebastes pinniger (canary), S. nebulosus (china), S. caurinus (copper), S. maliger (quillback), S. helvomaculatus (rosethorn), S. nigrocinctus (tiger), and S. ruberrimus (yelloweye).
¹⁹ “Other species” means sculpins, sharks, squid, and octopus. There is no OFL or ABC for “other species”, the TAC for “other species” equals 5 percent of the TACs for assessed target species.
²⁰ The total ABC and OFL is the sum of the ABCs and OFLs for assessed target species.

Apportionment of Reserves

Section 679.20(b)(2) requires 20 percent of each TAC for pollock, Pacific cod, flatfish, and the “other species” category be set aside in reserves for possible apportionment at a later date. In 2005, NMFS reapportioned all the reserves in the final harvest specifications. For 2006 and 2007, NMFS proposed apportionment of all the reserves in the proposed 2006 and 2007 harvest specifications published in the Federal Register on December 16, 2005 (70 FR 74739). NMFS received no public comments on the proposed reapportionments. For the final 2006 and 2007 harvest specifications, NMFS apportioned all the reserves for pollock, Pacific cod, flatfish, and “other species.” Specifications of TAC shown in Tables 1 and 2 reflect apportionment of reserve amounts for these species and species groups.

Allocations of the Sablefish TAC Amounts to Vessels Using Hook-and-Line and Trawl Gear

Sections 679.20(a)(4)(i) and (ii) require allocation of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and 5 percent is allocated to trawl gear. The trawl gear allocation in the Eastern Regulatory Area may only be used to support incidental catch of sablefish in directed fisheries for other target species (see § 679.20(a)(1)). In recognition of the trawl ban in the SEO District of the Eastern Regulatory Area, the Council recommended and NMFS concurs the allocation of 5 percent of the combined Eastern Regulatory Area sablefish TAC to trawl gear in the WYK District and the remainder to vessels using hook-and-line gear. In the SEO District, 100 percent of the sablefish TAC is allocated to vessels using hook-and-line gear. The Council recommended that only the trawl sablefish TAC be established biennially. This recommendation results in an allocation of 290 mt to trawl gear and 1,990 mt to hook-and-line gear in the WYK District and 3,520 mt to hook-and-line gear in the SEO District in 2006, and 257 mt to trawl gear in the WYK District in 2007. Table 3 shows the allocations of the final 2006 sablefish TACs between hook-and-line and trawl gear. Table 4 shows the allocations of the final 2007 allocation of sablefish TACs to trawl gear.

Table 3.—Final 2006 Sablefish TAC Specifications in the Gulf of Alaska and Allocations Thereof to Hook-and-Line and Trawl Gear
[Values are rounded to the nearest metric ton]
Area/district | TAC | Hook-and-line apportionment | Trawl apportionment
Western | 2,670 | 2,136 | 534
Central | 6,370 | 5,096 | 1,274
West Yakutat | 2,280 | 1,990 | 290
Southeast Outside | 3,520 | 3,520 | 0
Total | 14,840 | 12,742 | 2,098

Table 4.—Final 2007 Sablefish TAC Specifications in the Gulf of Alaska and Allocation Thereof to Trawl Gear
[Values are rounded to the nearest metric ton]
Area/district | TAC | Hook-and-line apportionment ¹ | Trawl apportionment
Western | 2,360 | n/a | 472
Central | 5,630 | n/a | 1,126
West Yakutat | 2,014 | n/a | 257
Southeast Outside | 3,116 | n/a | 0
Total | 13,120 | n/a | 1,855
¹ The Council recommended that harvest specifications for the hook-and-line gear sablefish IFQ fisheries be limited to 1 year.

Apportionments of Pollock TAC Among Seasons and Regulatory Areas, and Allocations for Processing by Inshore and Offshore Components

In the GOA, pollock is apportioned by season and area, and is further allocated for processing by inshore and offshore components. Pursuant to § 679.20(a)(5)(iii)(B), the annual pollock TAC specified for the Western and Central Regulatory Areas of the GOA is apportioned into four equal seasonal allowances of 25 percent. As established by § 679.23(d)(2)(i) through (iv), the A, B, C, and D season allowances are available from January 20 through March 10, from March 10 through May 31, from August 25 through October 1, and from October 1 through November 1, respectively.

Pollock TACs in the Western and Central Regulatory Areas of the GOA in the A and B seasons are apportioned among Statistical Areas 610, 620, and 630 in proportion to the distribution of pollock biomass based on a composite of NMFS winter surveys and in the C and D seasons in proportion to the distribution of pollock biomass based on the four most recent NMFS summer surveys. As in 2005, the Council recommended averaging the winter and summer distribution of pollock in the Central Regulatory Area for the A season to better reflect the distribution of pollock and the performance of the fishery in the area during the A season for the 2006 and 2007 fishing years. Within any fishing year, the underage or overage of a seasonal allowance may be added to, or subtracted from, subsequent seasonal allowances in a manner to be determined by the Regional Administrator. The rollover amount of unharvested pollock is limited to 20 percent of the seasonal apportionment for the statistical area. Any unharvested pollock above the 20 percent limit could be further distributed to the other statistical areas, in proportion to the estimated biomass in the subsequent season in those statistical areas (§ 679.20(a)(5)(iii)(B)). The WYK and SEO District pollock TACs of 1,792 mt and 6,157 mt in 2006 and 1,426 mt and 6,157 mt in 2007, respectively, are not allocated by season.

Section 679.20(a)(6)(i) requires the allocation of 100 percent of the pollock TAC in all regulatory areas and all seasonal allowances to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed by § 679.20(e) and (f). At this time, these incidental catch amounts are unknown and will be determined during the fishing year.

The 2006 and 2007 seasonal biomass distribution of pollock in the Western and Central Regulatory Areas, area apportionments, and seasonal apportionments for the A, B, C, and D seasons are summarized in Tables 5 and 6, except that amounts of pollock for processing by the inshore and offshore components are not shown.

Table 5.—Final 2006 Distribution of Pollock in the Central and Western Regulatory Areas of the Gulf of Alaska; Seasonal Biomass Distribution, Area Apportionments; and Seasonal Allowances of Annual TAC
[Values are rounded to the nearest metric ton]
[Area apportionments resulting from seasonal distribution of biomass]
Season | Shumagin (area 610) | Chirikof (area 620) | Kodiak (area 630) | Total
A | 4,210 (21.63%) | 11,192 (57.50%) | 4,062 (20.87%) | 19,464 (100%)
B | 4,210 (21.63%) | 13,394 (68.81%) | 1,861 (9.56%) | 19,465 (100%)
C | 10,249 (52.65%) | 2,953 (15.17%) | 6,263 (32.17%) | 19,465 (100%)
D | 10,249 (52.65%) | 2,953 (15.17%) | 6,262 (32.17%) | 19,464 (100%)
Annual Total | 28,918 | 30,492 | 18,448 | 77,858

Table 6.—Final 2007 Distribution of Pollock in the Central and Western Regulatory Areas of the Gulf of Alaska; Seasonal Biomass Distribution, Area Apportionments; and Seasonal Allowances of Annual TAC
[Values are rounded to the nearest metric ton]
[Area apportionments resulting from seasonal distribution of biomass]
Season | Shumagin (area 610) | Chirikof (area 620) | Kodiak (area 630) | Total
A | 3,352 (21.63%) | 8,910 (57.50%) | 3,234 (20.87%) | 15,496 (100%)
B | 3,352 (21.63%) | 10,663 (68.81%) | 1,481 (9.56%) | 15,496 (100%)
C | 8,159 (52.65%) | 2,351 (15.17%) | 4,986 (32.17%) | 15,496 (100%)
D | 8,159 (52.65%) | 2,351 (15.17%) | 4,986 (32.17%) | 15,496 (100%)
Annual Total | 23,022 | 24,275 | 14,687 | 62,984

Seasonal Apportionments of Pacific Cod TAC and Allocations for Processing of Pacific Cod TAC Between Inshore and Offshore Components

Pacific cod fishing is divided into two seasons in the Western and Central Regulatory Areas of the GOA. For hook-and-line, pot, and jig gear, the A season begins on January 1 and ends on June 10, and the B season begins on September 1 and ends on December 31. For trawl gear, the A season begins on January 20 and ends on June 10, and the B season begins on September 1 and ends on November 1 (§ 679.23(d)(3)). After subtraction of incidental catch needs by the inshore and offshore components in other directed fisheries through the A season ending June 10, 60 percent of the annual TAC will be available as a directed fishing allowance during the A season for the inshore and offshore components. The remaining 40 percent of the annual TAC will be available for harvest during the B season and will be apportioned between the inshore and offshore components (§ 679.20(a)(6)(ii)). Any amount of the A season apportionment of Pacific cod TAC under or over harvested will be added to or subtracted from the B season apportionment of Pacific cod TAC (§ 679.20(a)(11)(ii)). For purposes of clarification, NMFS points out that the dates for the A season and the B season for the Pacific cod fishery differ from those of the A, B, C, and D seasons for the pollock fisheries.

Section 679.20(a)(6)(ii) requires the allocation of the Pacific cod TAC apportionment in all regulatory areas between vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the 2006 and 2007 Pacific cod TACs are shown in Tables 7 and 8, respectively.

Table 7.—Final 2006 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
| Western | 20,141 | 18,127 | 2,014
A season (60%) |  | 12,085 | 10,876 | 1,208
B season (40%) |  | 8,056 | 7,251 | 806
| Central | 28,405 | 25,565 | 2,840
A season (60%) |  | 17,043 | 15,339 | 1,704
B season (40%) |  | 11,362 | 10,226 | 1,136
| Eastern | 3,718 | 3,346 | 372
Total |  | 52,264 | 47,038 | 5,226

Table 8.—Final 2007 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
| Western | 14,469 | 13,022 | 1,447
A season (60%) |  | 8,681 | 7,813 | 868
B season (40%) |  | 5,788 | 5,209 | 579
| Central | 20,405 | 18,365 | 2,040
A season (60%) |  | 12,243 | 11,019 | 1,224
B season (40%) |  | 8,162 | 7,346 | 816
| Eastern | 2,671 | 2,404 | 267
Total |  | 37,545 | 33,791 | 3,754

Demersal Shelf Rockfish

In a commercial fisheries news release dated December 9, 2005, the ADF&G announced the closure to directed fishing for demersal shelf rockfish (DSR) in the SEO District for 2006. The ADF&G estimates that the incidental catch mortality in the commercial halibut fishery combined with the estimated DSR catch in the charter and sport fisheries will exceed the TAC; therefore, a directed fishery in the SEO District cannot be prosecuted (5 AAC 28.160 (c)©)). NMFS reminds all fishermen that full retention of all DSR by federally permitted catcher vessels using hook-and-line or jig gear fishing for groundfish and Pacific halibut in the SEO District of the GOA is required (§ 679.20(j)).

Halibut PSC Limits

Section 679.21(d) establishes the annual halibut PSC limit apportionments to trawl and hook-and-line gear and may establish apportionments for pot gear. In December 2005, the Council recommended that NMFS maintain the 2005 halibut PSC limits of 2,000 mt for the trawl fisheries and 300 mt for the hook-and-line fisheries. Ten mt of the hook-and-line limit is further allocated to the DSR fishery in the SEO District. The DSR fishery is defined at § 679.21(d)(4)(iii)(A). This fishery has been apportioned 10 mt in recognition of its small scale harvests. Most vessels in the DSR fishery are less than 60 ft (18.3 m) length overall (LOA) and are exempt from observer coverage. Therefore, observer data are not available to verify actual bycatch amounts. NMFS assumes the halibut bycatch in the DSR fishery is low because of the short soak times for the gear and duration of the DSR fishery. Also, the DSR fishery occurs in the winter when less overlap occurs in the distribution of DSR and halibut.

Section 679.21(d)(4)(iii)(A) authorizes the exemption of specified non-trawl fisheries from the halibut PSC limit. The Council recommended that pot gear, jig gear, and the hook-and-line sablefish fishery be exempted from the non-trawl halibut limit for 2006 and 2007. The Council recommended these exemptions because: (1) The pot gear fisheries experience low annual halibut bycatch mortality (averaging 18 mt annually from 2001 through 2005); (2) the Individual Fishing Quota (IFQ) program requires legal-sized halibut to be retained by vessels using hook-and-line gear if a halibut IFQ permit holder is aboard and is holding unused halibut IFQ; and (3) halibut mortality for the jig gear fleet cannot be estimated because these vessels do not carry observers. NMFS assumes halibut mortality is very low, given the small amount of groundfish harvested annually by jig gear (averaging 298 mt annually from 2001 through 2005), and the survival rates of any halibut incidentally caught by jig gear and released are high.

Section 679.21(d)(5) requires NMFS to seasonally apportion the halibut PSC limits based on recommendations from the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2005 and 2006 harvest specifications (70 FR 8958, February 24, 2005) summarized the Council's and NMFS’ findings with respect to each of these FMP considerations. The Council's and NMFS’ findings for 2006 and 2007 are unchanged from 2005. The opening date for the third seasonal allowance of the trawl halibut PSC limit and the start date for directed fishing for rockfish by trawl gear is July 1 in 2006 and 2007. This date will facilitate inseason management of the rockfish fisheries and reduce the effect of the rockfish fisheries on the annual NMFS sablefish survey that occurs later in July.

NMFS concurs with the Council's recommendations described here and listed in Table 9. Section 679.21(d)(5)(iii) and (iv) specify that any underages or overages in a seasonal apportionment of a PSC limit will be deducted from or added to the next respective seasonal apportionment within the 2006 and 2007 fishing years. The information to establish the halibut PSC limits was obtained from the 2005 SAFE report, NMFS, ADF&G, the International Pacific Halibut Commission (IPHC), and public testimony.

Estimated Halibut Bycatch in Prior Years

The best available information on estimated halibut bycatch is data collected by observers during 2005. The calculated halibut bycatch mortality by trawl, hook-and-line, and pot gear through December 31, 2005, is 2,012 mt, 194 mt, and 45 mt, respectively, for a total halibut mortality of 2,251 mt.

Halibut bycatch restrictions seasonally constrained trawl gear fisheries during the 2005 fishing year. Trawling during the first season closed for the deep-water complex on March 23 (70 FR 15600, March 28, 2005) and during the second season on April 8 (70 FR 19339, April 13, 2005). The April 8 closure was modified to open trawling for the deep-water fishery complex from April 24 through May 3 (70 FR 21678, April 27, 2005 and 70 FR 23940, May 6, 2005). Trawling during the third season closed for the deep-water complex on July 24 (70 FR 43327, July 27, 2005) and during the fourth season on September 4 (70 FR 52326, September 2, 2005). Trawling during the third season closed for the shallow-water complex on August 19 (70 FR 49507, August 24, 2005) and during the fourth season on September 4 (70 FR 52325, September 2, 2005). Trawling for all groundfish targets (with the exception of pollock by vessels using pelagic trawl gear) closed for the fifth season on October 1 (70 FR 57803, October 4, 2005). The use of hook-and-line gear targeting groundfish remained open throughout the fishing year in 2005 because the first seasonal allowance of halibut PSC was not reached.

The amount of groundfish that trawl gear might have harvested if halibut catch limitations had not restricted the 2005 season is unknown.

Expected Changes in Groundfish Stocks

In December 2005, the Council adopted higher ABCs for Pacific cod (in 2006), deep-water flatfish (2006 and 2007), other rockfish (2006 and 2007), Pacific ocean perch (2006 and 2007), shortraker rockfish (2006 and 2007), pelagic shelf rockfish (2006 and 2007), thornyhead rockfish (2006 and 2007), Atka mackerel (2006 and 2007), and longnose and other skates (2006 and 2007), than those established for 2005. The Council adopted lower ABCs for pollock (2006 and 2007), Pacific cod (in 2007), sablefish (2006 and 2007), rex sole (2006 and 2007), shallow water flatfish (2006 and 2007), flathead sole (2006 and 2007), sablefish (2006 and 2007), arrowtooth flounder (2006 and 2007), rougheye rockfish (2006 and 2007), and big skate (2006 and 2007), than those established for 2005. For northern rockfish, the Council recommended that ABC levels remain unchanged from 2005. More information on these changes is included in the 2005 SAFE report (November 2005) and in the Council and SSC December 2005 meeting minutes.

Expected Changes in Groundfish Catch

The total TAC amounts for the GOA are 291,950 mt for 2006, and 257,772 mt for 2007, an increase of less than 1 percent in 2006 and a decrease of about 12 percent in 2007 from the 2005 TAC total of 291,298 mt. Those fisheries for which the 2006 and 2007 TACs are lower than in 2005 are pollock (decreased to 85,807 mt in 2006 and 69,567 mt in 2007, from 91,710 mt in 2005), Pacific cod (decreased to 37,545 mt in 2007, from 44,433 mt in 2005), rex sole (decreased to 9,200 mt in 2006 and 8,700 mt in 2007, from 12,650 mt in 2005), shallow water flatfish (decreased to 19,972 mt in 2006 and 2007, from 20,740 mt in 2005), flathead sole (decreased to 9,077 mt in 2006 and 9,153 mt in 2007, from 10,390 mt in 2005), sablefish (decreased to 14,840 in 2006 and 13,120 mt in 2007, from 15,940 mt in 2005), rougheye rockfish (decreased to 983 mt in 2006 and 964 mt in 2007, from 1,007 mt in 2005), big skate (decreased to 3,544 mt in 2006 and 2007, from 3,999 mt in 2005), and “other species” (decreased to 13,856 in 2006 and to 12,314 mt in 2007, from 13,871 mt in 2005).

Those fisheries for which the 2006 or 2007 TACs are higher than in 2005 are Pacific cod (increased to 52,264 mt in 2006, from 44,433 mt in 2005), deep-water flatfish (increased to 8,665 mt in 2006 and 8,677 mt in 2007, from 6,820 mt in 2005), other rockfish (increased to 1,480 mt in 2006 and 2007, from 670 mt in 2005), Pacific ocean perch (increased to 14,261 mt in 2006 and 14,726 mt in 2007, from 13,575 mt in 2005), shortraker rockfish (increased to 843 mt in 2006 and 2007, from 753 mt in 2005), pelagic shelf rockfish (increased to 5,436 mt in 2006 and 5,530 mt in 2007, from 4,553 mt in 2005), thornyhead rockfish (increased to 2,209 mt in 2006 and 2007, from 1,940 mt in 2005), Atka mackerel (increased to 1,500 mt in 2006 and 2007, from 600 mt in 2005), longnose skate (increased to 2,895 mt in 2006 and 2007, from 2,818 mt in 2005), and other skates (increased to 1,617 mt in 2006 and 2007, from 1,327 mt in 2005). species (increased to 13,942 mt in 2006, from 13,871 mt in 2005).

Current Estimates of Halibut Biomass and Stock Condition

The most recent halibut stock assessment was conducted by the International Pacific Halibut Commission (IPHC) in December 2005 for the 2006 commercial fishery. The 2005 assessment methods are unchanged from the previous year. The current exploitable halibut biomass in Alaska for 2006 was estimated to be 189,543 mt, down from 192,023 mt in 2005. The female spawning biomass remains far above the minimum spawning biomass that occurred in the 1970s.

The exploitable biomass of the Pacific halibut stock apparently peaked at 326,520 mt in 1988. According to the IPHC, the long-term average reproductive biomass for the Pacific halibut resource is estimated at 118,000 mt. Long-term average yield was estimated at 26,980 mt. The species is fully utilized. Recent average catches (1994-2004) in the commercial halibut fisheries in Alaska have averaged 34,241 mt. Catch in Alaska is 27 percent higher than long-term potential yield for the entire halibut stock reflecting the good condition of the Pacific halibut resource. In December 2005, IPHC staff recommended Alaska commercial catch limits totaling 33,421 mt in 2006, down from 34,459 mt in 2005. Through December 31, 2005, commercial hook- and line harvests of halibut in Alaska totaled 33,381 mt.

In 2004, IPHC staff identified a 25 percent harvest rate as a candidate target rate for use with the new population assessment, pending its evaluation using the sex-specific population model. This updated evaluation indicated that a harvest rate less than 25 percent would result in a 50 percent lower probability that the stock biomass would reach a level requiring reductions in harvest rate. For 2006, the IPHC staff recommended a harvest rate of 22.5 percent for Areas 2C and 3A, 20 percent in Areas 3B and 4A, and 15 percent in Areas 4B and 4CDE. These are the same rates as used in 2005 except in Areas 4B and 4CDE, where the rate has been reduced from 20 percent to 15 percent. For Area 4B, the continued decline in biomass relative to the estimated historical minimum, the lack of recruitment, and a new analysis of productivity, prompted the IPHC staff to recommend the lower harvest rate of 15 percent. Similarly for Area 4CDE, the sharp decline in survey and commercial catch rates resulted in the IPHC staff's recommendation of a 15 percent harvest rate.

Additional information on the Pacific halibut stock assessment may be found in the IPHC's 2005 Pacific halibut stock assessment (December 2005), available from the IPHC and on its Web site at http://www.iphc.washington.edu. At its annual meeting in January 2006 the IPHC adopted staff recommendations for the commercial catch limits described above for 2006 and set a season opening date of March 5.

Other Factors

The proposed 2006 and 2007 harvest specifications (70 FR 74739, December 16, 2005) discuss potential impacts of expected fishing for groundfish on halibut stocks and methods and costs of reducing halibut bycatch in the groundfish fisheries.

Table 9.—Final 2006 and 2007 Pacific Halibut PSC Limits, Allowances, and Apportionments
[Values are in metric tons]
Trawl gear: Dates | Trawl gear: Amount | Hook-and-line gear ¹: Other than DRS: Dates | Hook-and-line gear ¹: Other than DRS: Amount | Hook-and-line gear ¹: DSR: Dates | Hook-and-line gear ¹: DSR: Amount
January 20-April 1 | 550 (27.5%) | January 1-June 10 | 250 (86%) | January 1-December 31 | 10 (100%)
April 1—July 1 | 400 (20%) | June 10-September 1 | 5 (2%) |  |
July 1-September 1 | 600 (30%) | September 1-December 31 | 35 (12%) |  |
September 1-October 1 | 150 (7.5%) |  |  |  |
October 1-December 31 | 300 (15%) |  |  |  |
Total | 2,000 (100%) |  | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes the further apportionment of the trawl halibut PSC limit to trawl fishery categories. The annual apportionments are based on each category's proportional share of the anticipated halibut bycatch mortality and optimization of the total amount of groundfish harvest under the halibut PSC limit. The fishery categories for the trawl halibut PSC limits are: (1) A deep-water species complex, comprised of sablefish, rockfish, deep-water flatfish, rex sole and arrowtooth flounder; and (2) a shallow-water species complex, comprised of pollock, Pacific cod, shallow-water flatfish, flathead sole, Atka mackerel, skates, and “other species” (§ 679.21(d)(3)(iii)). The final seasonal 2006 and 2007 apportionments for the two fishery complexes are presented in Table 10.

Table 10.—Final 2006 and 2007 Apportionment of Pacific Halibut PSC Trawl Limits Between the Trawl Gear Deep-Water Species Complex and the Shallow-Water Species Complex
[Values are in metric tons]
Season | Shallow-water | Deep-water | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ¹ | n/a | n/a | 300
Total | n/a | n/a | n/a
¹ There is no apportionment between shallow-water and deep-water fishery complexes during the 5th season (October 1-December 31).

Halibut Discard Mortality Rates

The Council recommends and NMFS concurs that the recommended halibut discard mortality rates (DMRs) developed by the staff of the IPHC for the 2005 GOA groundfish fisheries be used to monitor the 2006 and 2007 GOA halibut bycatch mortality limits. The IPHC recommended use of long-term average DMRs for the 2004-2006 groundfish fisheries. The IPHC recommendation also includes a provision that DMRs could be revised should analysis indicate that a fishery's annual DMR deviates substantially (up or down) from the long-term average. Most of the IPHC's assumed DMRs were based on an average of mortality rates determined from NMFS observer data collected between 1993 and 2002. DMRs were lacking for some fisheries, so rates from the most recent years were used. For the “other species” and skate fisheries, where insufficient mortality data are available, the mortality rate of halibut caught in the Pacific cod fishery for each gear type was recommended as a default rate. The GOA DMRs for 2006 and 2007 are unchanged from those used in 2005. The DMRs for hook-and-line targeted fisheries range from 8 to 13 percent. The DMRs for trawl targeted fisheries range from 57 to 75 percent. The DMRs for all pot targeted fisheries are 17 percent. The final DMRs for 2006 and 2007 are listed in Table 11. The justification for these DMRs is discussed in Appendix A of the 2004 SAFE report dated November 2004. In December 2006, the IPHC will recommend DMRs for the 2007-2009 groundfish fisheries.

Table 11.—Final 2006 and 2007 Halibut Discard Mortality Rates for Vessels Fishing in the Gulf of Alaska
[Listed values are percentages of halibut bycatch assumed to be dead]
Gear | Target | Mortality rate (percent)
Hook-and-line | Other species | 13
| Skates | 13
| Pacific cod | 13
| Rockfish | 8
Trawl | Arrowtooth flounder | 69
| Atka mackerel | 60
| Deep-water flatfish | 57
| Flathead sole | 62
| Non-pelagic pollock | 59
| Other species | 61
| Skates | 61
| Pacific cod | 61
| Pelagic pollock | 75
| Rex sole | 62
| Rockfish | 67
| Sablefish | 62
| Shallow-water flatfish | 68
Pot | Other species | 17
| Skates | 17
| Pacific cod | 17

Non-Exempt American Fisheries Act (AFA) Catcher Vessel Groundfish Harvest and PSC Sideboard Limitations

Section 679.64 established groundfish harvesting and processing sideboard limitations on AFA catcher/processors and catcher vessels in the GOA. These sideboard limitations are necessary to protect the interests of fishermen and processors who do not directly benefit from the AFA from fishermen and processors who received exclusive harvesting and processing privileges under the AFA. In the GOA, listed AFA catcher/processors are prohibited from harvesting any species of fish (§ 679.7(k)(1)(ii)). These listed AFA catcher/processors also are prohibited from processing any pollock in the GOA and any groundfish harvested in Statistical Area 630 of the GOA (§ 679.7(k)(1)(iv)). Section 679.64(b)(2)(ii) exempts from sideboard limitations AFA catcher vessels in the GOA less than 125 ft (38.1 m) LOA whose annual BSAI pollock landings totaled less than 5,100 mt and that made 40 or more GOA groundfish landings from 1995 through 1997.

For non-exempt AFA catcher vessels in the GOA, sideboards limitations are based on their traditional harvest levels of TAC in groundfish fisheries covered by the GOA FMP. Section 679.64(b)(3)(iii) establishes the groundfish sideboard limitations in the GOA based on the retained catch of non-exempt AFA catcher vessels of each sideboard species from 1995 through 1997 divided by the TAC for that species over the same period. These amounts are listed in Table 12 for 2006 and in Table 13 for 2007. All targeted or incidental catch of sideboard species made by non-exempt AFA catcher vessels will be deducted from the sideboard limits in Tables 12 and 13.

Table 12.—Final 2006 GOA Non-Exempt American Fisheries Act Catcher Vessel (CV) Groundfish Harvest Sideboard Limitations
[Values are in metric tons]
Species | Apportionments and allocations by area/season/processor/gear | Ratio of 1995-1997 non-exempt AFA CV catch to 1995-1997 TAC | 2006 TAC | 2006 non-exempt AFA catcher vessel sideboard
Pollock | A Season (W/C areas only) January 20-February 25 |  |  |
| Shumagin (610) | 0.6112 | 4,210 | 2,573
| Chirikof (620) | 0.1427 | 11,192 | 1,597
| Kodiak (630) | 0.2438 | 4,062 | 990
| B Season (W/C areas only) March 10-May 31 |  |  |
| Shumagin (610) | 0.6112 | 4,210 | 2,573
| Chirikof (620) | 0.1427 | 13,394 | 1,911
| Kodiak (630) | 0.2438 | 1,861 | 454
| C Season (W/C areas only) August 25-September 15 |  |  |
| Shumagin (610) | 0.6112 | 10,249 | 6,264
| Chirikof (620) | 0.1427 | 2,953 | 421
| Kodiak (630) | 0.2438 | 6,263 | 1,527
| D Season (W/C areas only) October 1-November 1
| Shumagin (610) | 0.6112 | 10,249 | 6,264
| Chirikof (620) | 0.1427 | 2,953 | 421
| Kodiak (630) | 0.2438 | 6,262 | 1,527
| Annual |  |  |
| WYK (640) | 0.3499 | 1,792 | 627
| SEO (650) | 0.3499 | 6,157 | 2,154
Pacific cod | A Season ¹ January 1-June 10 |  |  |
| W inshore | 0.1423 | 10,876 | 1,548
| W offshore | 0.1026 | 1,208 | 124
| C inshore | 0.0722 | 15,339 | 1,107
| C offshore | 0.0721 | 1,704 | 123
| B Season ² September 1-December 31 |  |  |
| W inshore | 0.1423 | 7,251 | 1,032
| W offshore | 0.1026 | 806 | 83
| C inshore | 0.0722 | 10,226 | 738
| C offshore | 0.0721 | 1,136 | 82
| Annual |  |  |
| E inshore | 0.0079 | 3,346 | 26
| E offshore | 0.0078 | 372 | 3
Flatfish deep-water | W | 0.0000 | 420 | 0
| C | 0.0670 | 4,139 | 277
| E | 0.0171 | 4,106 | 70
Rex sole | W | 0.0010 | 1,159 | 1
| C | 0.0402 | 5,506 | 221
| E | 0.0153 | 2,535 | 39
Flathead sole | W | 0.0036 | 2,000 | 7
| C | 0.0261 | 5,000 | 131
| E | 0.0048 | 2,077 | 10
Flatfish shallow-water | W | 0.0156 | 4,500 | 70
| C | 0.0598 | 13,000 | 777
| E | 0.0126 | 2,472 | 31
Arrowtooth flounder | W | 0.0021 | 8,000 | 17
| C | 0.0309 | 25,000 | 773
| E | 0.0020 | 5,000 | 10
Sablefish | W trawl gear | 0.0000 | 534 | 0
| C trawl gear | 0.0720 | 1,294 | 93
| E trawl gear | 0.0488 | 290 | 14
Pacific ocean perch | W | 0.0623 | 4,155 | 259
| C | 0.0866 | 7,418 | 642
| E | 0.0466 | 2,688 | 125
Shortraker rockfish | W | 0.0000 | 153 | 0
| C | 0.0237 | 353 | 8
| E | 0.0124 | 337 | 4
Rougheye rockfish | W | 0.0000 | 136 | 0
| C | 0.0237 | 608 | 14
| E | 0.0124 | 239 | 3
Other rockfish | W | 0.0034 | 557 | 2
| C | 0.2065 | 386 | 80
| E | 0.0000 | 517 | 0
Northern rockfish | W | 0.0003 | 1,483 | 0
| C | 0.0336 | 3,608 | 121
Pelagic shelf rockfish | W | 0.0001 | 1,438 | 0
| C | 0.0000 | 3,262 | 0
| E | 0.0067 | 736 | 5
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | GW | 0.0090 | 1,617 | 15
Demersal shelf rockfish | SEO | 0.0020 | 410 | 1
Atka mackerel | Gulfwide | 0.0309 | 1,500 | 46
Other species | Gulfwide | 0.0090 | 13,856 | 125
¹ The Pacific cod A season for trawl gear does not open until January 20.
² The Pacific cod B season for trawl gear closes November 1.

Table 13.—Final 2007 GOA Non-Exempt American Fisheries Act Catcher Vessel (CV) Groundfish Harvest Sideboard Limitations
[Values are in metric tons]
Species | Apportionments and allocations by area/season/processor/gear | Ratio of 1995-1997 non-exempt AFA CA catch to 1995-1997 TAC | 2007 TAC | 2007 non-exempt AFA catcher vessel sideboard
Pollock | A Season (W/C areas only) January 20-February 25 |  |  |
| Shumagin (610) | 0.6112 | 3,352 | 2,049
| Chirikof (620) | 0.1427 | 8,910 | 1,271
| Kodiak (630) | 0.2438 | 3,234 | 788
| B Season (W/C areas only) March 10-May 31 |  |  |
| Shumagin (610) | 0.6112 | 3,352 | 2,049
| Chirikof (620) | 0.1427 | 10,663 | 1,522
| Kodiak (630) | 0.2438 | 1,481 | 361
| C Season (W/C areas only) August 25-September 15 |  |  |
| Shumagin (610) | 0.6112 | 8,159 | 4,987
| Chirikof (620) | 0.1427 | 2,351 | 335
| Kodiak (630) | 0.2438 | 4,986 | 1,216
| D Season (W/C areas only) October 1-November 1 |  |  |
| Shumagin (610) | 0.6112 | 8,159 | 4,987
| Chirikof (620) | 0.1427 | 2,351 | 335
| Kodiak (630) | 0.2438 | 4,986 | 1,216
| Annual |  |  |
| WYK (640) | 0.3499 | 1,426 | 499
| SEO (650) | 0.3499 | 6,157 | 2,154
Pacific cod | A Season ¹ January 1-June 10 |  |  |
| W inshore | 0.1423 | 7,813 | 1,112
| W offshore | 0.1026 | 868 | 89
| C inshore | 0.0722 | 11,019 | 796
| C offshore | 0.0721 | 1,224 | 88
| B Season ² September 1-December 31 |  |  |
| W inshore | 0.1423 | 5,209 | 741
| W offshore | 0.1026 | 579 | 59
| C inshore | 0.0722 | 7,346 | 530
| C offshore | 0.0721 | 816 | 59
| Annual |  |  |
| E inshore | 0.0079 | 2,404 | 19
| E offshore | 0.0078 | 267 | 2
Flatfish deep-water | W | 0.0000 | 421 | 0
| C | 0.0670 | 4,145 | 278
| E | 0.0171 | 4,111 | 70
Rex sole | W | 0.0010 | 1,096 | 1
| C | 0.0402 | 5,207 | 209
| E | 0.0153 | 2,397 | 37
Flathead sole | W | 0.0036 | 2,000 | 7
| C | 0.0261 | 5,000 | 131
| E | 0.0048 | 2,644 | 13
Flatfish shallow-water | W | 0.0156 | 4,500 | 70
| C | 0.0598 | 13,000 | 777
| E | 0.0126 | 2,472 | 31
Arrowtooth flounder | W | 0.0021 | 8,000 | 17
| C | 0.0309 | 25,000 | 773
| E | 0.0020 | 5,000 | 10
Sablefish trawl gear | W trawl gear | 0.0000 | 472 | 0
| C trawl gear | 0.0720 | 1,126 | 81
| E trawl gear | 0.0488 | 257 | 13
Pacific ocean perch | W | 0.0623 | 4,290 | 267
| C | 0.0866 | 7,660 | 663
| E | 0.0466 | 2,776 | 129
Shortraker rockfish | W | 0.0000 | 153 | 0
| C | 0.0237 | 353 | 8
| E | 0.0124 | 337 | 4
Shortraker rockfish | W | 0.0000 | 133 | 0
| C | 0.0237 | 596 | 14
| E | 0.0124 | 235 | 3
Other rockfish | W | 0.0034 | 577 | 2
| C | 0.2065 | 386 | 80
| E | 0.0000 | 517 | 0
Northern rockfish | W | 0.0003 | 1,483 | 0
| C | 0.0336 | 3,608 | 121
Pelagic shelf rockfish | W | 0.0001 | 1,463 | 0
| C | 0.0000 | 3,318 | 0
| E | 0.0067 | 749 | 5
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Big and Longnose skates | W | 0.0090 | 65 | 1
| C | 0.0090 | 1,969 | 18
| E | 0.0090 | 861 | 8
Other skates | GW | 0.0090 | 1,617 | 15
Demersal shelf rockfish | SEO | 0.0020 | 410 | 1
Atka mackerel | Gulfwide | 0.0309 | 1,500 | 46
Other species | Gulfwide | 0.0090 | 12,229 | 110
¹ The Pacific cod A season for trawl gear does not open until January 20.
² The Pacific cod B season for trawl gear closes November 1.

The PSC sideboard limitations for non-exempt AFA catcher vessels in the GOA are based on the aggregate retained groundfish catch by non-exempt AFA catcher vessels in each PSC target category from 1995 through 1997 divided by the retained catch of all vessels in that fishery from 1995 through 1997 (§ 679.64(b)(4)). These amounts are shown in Table 14.

Table 14.—Final 2006 and 2007 Non-Exempt American Fisheries Act Catcher Vessel Prohibited Species Catch (PSC) Limits for the GOA
[Values are in metric tons]
PSC species | Season | Target fishery | Ratio of 1995-1997 non- exempt AFA CV retained catch to total retained catch | 2006 and 2007 PSC limit | 2006 and 2007 non-exempt AFA catcher vessel PSC limit
Halibut mortality | Trawl 1st seasonal allowance | shallow-water | 0.340 | 450 | 153
| January 20-April 1 | deep-water | 0.070 | 100 | 7
| Trawl 2nd seasonal allowance | shallow-water | 0.340 | 100 | 34
| April 1-July 1 | deep-water | 0.070 | 300 | 21
| Trawl 3rd seasonal allowance | shallow-water | 0.340 | 200 | 68
| July 1-September 1 | deep-water | 0.070 | 400 | 28
| Trawl 4th seasonal allowance | shallow-water | 0.340 | 150 | 51
| September 1-October 1 | deep-water | 0.070 | 0 | 0
| Trawl 5th seasonal allowance | all targets | 0.205 | 300 | 61
| October 1-December 31

Non-AFA Crab Vessel Groundfish Harvest Limitations

Section 680.22 establishes groundfish catch limitations for vessels with a history of participation in the Bering Sea snow crab fishery to prevent these vessels from using the increased flexibility provided by the Crab Rationalization Program to expand their level of participation in the GOA groundfish fisheries. Restrictions on participation in other fisheries, also called sideboards, restrict a vessel's harvests to its historical landings in all GOA groundfish fisheries (except the fixed-gear sablefish fishery). Restrictions also apply to landings made using a License Limitation Program (LLP) license derived from the history of a restricted vessel, even if that LLP is used on another vessel.

For non-AFA crab vessels in the GOA, sideboard limitations are based on their traditional harvest levels of TAC in groundfish fisheries covered by the GOA FMP. Sections 680.22(d) and (e) base the groundfish sideboard limitations in the GOA on the retained catch by non-AFA crab vessels of each sideboard species from 1996 through 2000 divided by the total retained harvest of that species over the same period. These amounts are listed in Table 15 for 2006 and in Table 16 for 2007. All targeted or incidental catch of sideboard species made by non-AFA crab vessels will be deducted from the sideboard limits in Tables 15 and 16. Vessels exempt from Pacific cod sideboards are those that landed less than 45,359 kg of Bering Sea snow crab and more than 500 mt of groundfish (in round weight equivalents) from the GOA between January 1, 1996 and December 31, 2000, and any vessel named on an LLP that was generated in whole or in part by the fishing history of a vessel meeting the criteria in § 680.22(a)(3).

Table 15.—Final 2006 GOA Non-American Fisheries Act Crab Vessel (CV) Groundfish Harvest Sideboard Limitations
[Values are rounded to nearest metric ton]
Species | Apportionments and allocations by area/season/processor/gear | Ratio of 1996-2000 non-AFA CV catch to 1996-2000 total harvest | 2006 TAC | 2006 non-AFA crab vessel sideboard
Pollock | A Season (W/C areas only) January 20—March 10
| Shumagin (610) | 0.0098 | 4,210 | 41
| Chirikof (620) | 0.0031 | 11,192 | 35
| Kodiak (630) | 0.0002 | 4,062 | 1
| B Season (W/C areas only) March 10-May 31
| Shumagin (610) | 0.0098 | 4,210 | 41
| Chirikof (620) | 0.0031 | 13,394 | 42
| Kodiak (630) | 0.0002 | 1,861 | 0
| C Season (W/C areas only) August 25-October 1
| Shumagin (610) | 0.0098 | 10,249 | 100
| Chirikof (620) | 0.0031 | 2,953 | 9
| Kodiak (630) | 0.0002 | 6,263 | 1
| D Season (W/C areas only) October 1-November 1
| Shumagin (610) | 0.0098 | 10,249 | 100
| Chirikof (620) | 0.0031 | 2,953 | 9
| Kodiak (630) | 0.0002 | 6,262 | 1
| Annual
| WYK (640) | 0.0000 | 1,792 | 0
| SEO (650) | 0.0000 | 6,157 | 0
Pacific cod | A Season ¹January 1-June 10
| W inshore | 0.0902 | 10,876 | 981
| W offshore | 0.2046 | 1,208 | 247
| C inshore | 0.0383 | 15,339 | 587
| C offshore | 0.2074 | 1,704 | 353
| B Season ²September 1—December 31
| W inshore | 0.0902 | 7,251 | 654
| W offshore | 0.2046 | 806 | 165
| C inshore | 0.0383 | 10,226 | 392
| C offshore | 0.2074 | 1,136 | 236
| Annual
| E inshore | 0.0110 | 3,346 | 37
| E offshore | 0.0000 | 372 | 0
Flatfish deep-water | W | 0.0035 | 420 | 1
| C | 0.0000 | 4,139 | 0
| E | 0.0000 | 4,106 | 0
Rex sole | W | 0.0000 | 1,159 | 0
| C | 0.0000 | 5,506 | 0
| E | 0.0000 | 2,535 | 0
Flathead sole | W | 0.0002 | 2,000 | 0
| C | 0.0004 | 5,000 | 2
| E | 0.0000 | 2,077 | 0
Flatfish shallow-water | W | 0.0059 | 4,500 | 27
| C | 0.0001 | 13,000 | 1
| E | 0.0000 | 2,472 | 0
Arrowtooth flounder | W | 0.0004 | 8,000 | 3
| C | 0.0001 | 25,000 | 3
| E | 0.0000 | 5,000 | 0
Sablefish | W trawl gear | 0.0000 | 534 | 0
| C trawl gear | 0.0000 | 1,274 | 0
| E trawl gear | 0.0000 | 290 | 0
Pacific ocean perch | W | 0.0000 | 4,155 | 0
| C | 0.0000 | 7,418 | 0
| E | 0.0000 | 2,688 | 0
Shortraker rockfish | W | 0.0013 | 153 | 0
| C | 0.0012 | 353 | 0
| E | 0.0009 | 337 | 0
Rougheye rockfish | W | 0.0067 | 136 | 1
| C | 0.0047 | 608 | 3
| E | 0.0008 | 239 | 0
Other rockfish | W | 0.0035 | 577 | 2
| C | 0.0033 | 386 | 1
| E | 0.0000 | 517 | 0
Northern rockfish | W | 0.0005 | 1,483 | 1
| C | 0.0000 | 3,608 | 0
Pelagic shelf rockfish | W | 0.0017 | 1,438 | 2
| C | 0.0000 | 3,262 | 0
| E | 0.0000 | 736 | 0
Thornyhead rockfish | W | 0.0047 | 513 | 2
| C | 0.0066 | 989 | 7
| E | 0.0045 | 707 | 3
Big skate | W | 0.0392 | 695 | 27
| C | 0.0159 | 2,250 | 36
| E | 0.0000 | 599 | 0
Longnose skate | W | 0.0392 | 65 | 3
| C | 0.0159 | 1,969 | 31
| E | 0.0000 | 861 | 0
Other skates | GW | 0.0176 | 1,617 | 28
Demersal shelf rockfish | SEO | 0.0000 | 410 | 0
Atka mackerel | Gulfwide | 0.0000 | 1,500 | 0
Other species | Gulfwide | 0.0176 | 13,856 | 244
¹ The Pacific cod A season for trawl gear does not open until January 20.
² The Pacific cod B season for trawl gear closes November 1.

Table 16.—Final 2007 GOA Non-American Fisheries Act Crab Vessel (CV) Groundfish Harvest Sideboard Limitations
[Values are rounded to nearest metric ton]
Species | Apportionments and allocations by area/season/processor/gear | Ratio of 1996-2000 non-AFA CV catch to 1996-2000 total harvest | 2007 TAC | 2007 non-AFA crab vessel sideboard
Pollock | A Season (W/C areas only) January 20-March 10
| Shumagin (610) | 0.0098 | 3,352 | 33
| Chirikof (620) | 0.0031 | 8,910 | 28
| Kodiak (630) | 0.0002 | 3,234 | 1
| B Season (W/C areas only) March 10-May 31
| Shumagin (610) | 0.0098 | 3,352 | 33
| Chirikof (620) | 0.0031 | 10,633 | 33
| Kodiak (630) | 0.0002 | 1,481 | 0
| C Season (W/C areas only) August 25-October 1
| Shumagin (610) | 0.0098 | 8,159 | 80
| Chirikof (620) | 0.0031 | 2,351 | 7
| Kodiak (630) | 0.0002 | 4,986 | 1
| D Season (W/C areas only) October 1-November 1
| Shumagin (610) | 0.0098 | 8,159 | 80
| Chirikof (620) | 0.0031 | 2,351 | 7
| Kodiak (630) | 0.0002 | 4,986 | 1
| Annual
| WYK (640) | 0.0000 | 1,426 | 0
| SEO (650) | 0.0000 | 6,157 | 0
Pacific cod | A Season ¹ January 1-June 10
| W inshore | 0.0902 | 7,813 | 705
| W offshore | 0.2046 | 868 | 178
| C inshore | 0.0383 | 11,019 | 422
| C offshore | 0.2074 | 1,224 | 254
| B Season ² September 1-December 31
| W inshore | 0.0902 | 5,209 | 470
| W offshore | 0.2046 | 579 | 118
| C inshore | 0.0383 | 7,346 | 281
| C offshore | 0.2074 | 816 | 169
| Annual
| E inshore | 0.0110 | 2,404 | 26
| E offshore | 0.0000 | 267 | 0
Flatfish deep-water | W | 0.0035 | 421 | 1
| C | 0.0000 | 4,145 | 0
| E | 0.0000 | 4,111 | 0
Rex sole | W | 0.0000 | 1,096 | 0
| C | 0.0000 | 5,207 | 0
| E | 0.0000 | 2,397 | 0
Flathead sole | W | 0.0002 | 2,000 | 0
| C | 0.0004 | 5,000 | 2
| E | 0.0000 | 2,664 | 0
Flatfish shallow-water | W | 0.0059 | 4,500 | 27
| C | 0.0001 | 13,000 | 1
| E | 0.0000 | 2,472 | 0
Arrowtooth flounder | W | 0.0004 | 8,000 | 3
| C | 0.0001 | 25,000 | 3
| E | 0.0000 | 5,000 | 0
Sablefish | W trawl gear | 0.0000 | 472 | 0
| C trawl gear | 0.0000 | 1,126 | 0
| E trawl gear | 0.0000 | 257 | 0
Pacific ocean perch | W | 0.0000 | 4,290 | 0
| C | 0.0000 | 7,660 | 0
| E | 0.0000 | 2,776 | 0
Shortraker rockfish | W | 0.0013 | 153 | 0
| C | 0.0012 | 353 | 0
| E | 0.0009 | 337 | 0
Rougheye rockfish | W | 0.0067 | 133 | 1
| C | 0.0047 | 596 | 3
| E | 0.0008 | 235 | 0
Other rockfish | W | 0.0035 | 577 | 2
| C | 0.0033 | 386 | 1
| E | 0.0000 | 517 | 0
Northern rockfish | W | 0.0005 | 1,483 | 1
| C | 0.0000 | 3,608 | 0
Pelagic shelf rockfish | W | 0.0017 | 1,463 | 2
| C | 0.0000 | 3,318 | 0
| E | 0.0000 | 749 | 0
Thornyhead rockfish | W | 0.0047 | 513 | 2
| C | 0.0066 | 989 | 7
| E | 0.0045 | 707 | 3
Big skate | W | 0.0392 | 695 | 27
| C | 0.0159 | 2,250 | 36
| E | 0.0000 | 599 | 0
Longnose skate | W | 0.0392 | 65 | 3
| C | 0.0159 | 2,250 | 36
| E | 0.0000 | 599 | 0
Other skates | GW | 0.0176 | 1,617 | 28
Demersal shelf rockfish | SEO | 0.0000 | 410 | 0
Atka mackerel | Gulfwide | 0.0000 | 1,500 | 0
Other species | Gulfwide | 0.0176 | 12,229 | 215
¹ The Pacific cod A season for trawl gear does not open until January 20.
² The Pacific cod B season for trawl gear closes November 1.

Directed Fishing Closures

Pursuant to § 679.20(d)(1)(i), if the Regional Administrator determines: (1) That any allocation or apportionment of a target species or “other species” category apportioned to a fishery will be reached or, (2) with respect to pollock and Pacific cod, an allocation or apportionment to an inshore or offshore component allocation will be reached, the Regional Administrator may establish a directed fishing allowance for that species or species group. If the Regional Administrator establishes a directed fishing allowance and that allowance has or will be reached before the end of the fishing year, NMFS will prohibit directed fishing for that species or species group in the specified GOA regulatory area or district (§ 679.20(d)(1)(iii)).

The Regional Administrator has determined that the following TAC amounts in Table 17 are necessary as incidental catch to support other anticipated groundfish fisheries for the 2006 and 2007 fishing years.

Table 17.—Directed Fishing Closures in the GOA 2006 and 2007
[Amounts needed for incidental catch in other directed fisheries are in mt.]
Target | Regulatory Area | Gear/Component | Incidental catch
Atka mackerel | entire GOA | all | 1,500
Thornyhead rockfish | entire GOA | all | 2,209
Shortraker rockfish | entire GOA | all | 843
Rougheye rockfish | entire GOA | all | 983 (2006) 964 (2007)
Other rockfish | entire GOA | all | 1,480
Sablefish | entire GOA | trawl | 2,098 (2006) 1,885 (2007)
Big skates | entire GOA | all | 3,544
Longnose skates | entire GOA | all | 2,895
Other skates | entire GOA | all | 1,617
Pollock | entire GOA | all/offshore | ¹ unknown
¹ Pollock is closed to directed fishing in the GOA by the offshore component under § 679.20(a)(6)(i).

Consequently, in accordance with § 679.20(d)(1)(i), the Regional Administrator establishes the directed fishing allowances for the species or species groups listed in Table 17 as zero. Therefore, in accordance with § 679.20(d)(1)(iii), NMFS is prohibiting directed fishing for those species, regulatory areas, gear types, and components listed in Table 17. These closures will remain in effect through 2400 hrs, A.l.t., December 31, 2007. In a commercial fisheries news release dated December 7, 2005, ADF&G, in accordance with 5 AAC 28.160(c) (©), has closed directed fishing for demersal shelf rockfish in the SEO District during the 2006 fishing year.

Section 679.64(b)(5) provides for management of AFA catcher vessel groundfish harvest limits and PSC bycatch limits using directed fishing closures and PSC closures in accordance with §§ 679.20(d)(1)(iv), 679.21(d)(8), and 679.21(e)(3)(v). The Regional Administrator has determined that, in addition to the closures listed above, many of the non-exempt AFA catcher vessel sideboard limits listed in Tables 12 and 13 are necessary as incidental catch to support other anticipated groundfish fisheries for the 2006 and 2007 fishing years. In accordance with § 679.20(d)(1)(iv), the Regional Administrator establishes the directed fishing allowances for the species and species groups in Table 18 as zero. Therefore, in accordance with § 679.20(d)(1)(iii), NMFS is prohibiting directed fishing by non-exempt AFA catcher vessels in the GOA for the species and specified areas set out in Table 18. These closures will remain in effect through 2400 hrs, A.l.t., December 31, 2007.

Table 18.—2006 and 2007 Non-Exempt AFA Catcher Vessel Sideboard Directed Fishing Closures in the GOA
[Amounts needed for incidental catch in other directed fisheries are in metric tons]
Species | Regulatory area/district | Gear | Incidental catch
Pacific cod | Eastern GOA | all | 26 (inshore 2006) 19 (inshore 2007) 3 (offshore 2006) 2 (offshore 2007)
Deep-water flatfish | Western GOA | all | 0
Rex sole | Western GOA | all | 1
Flathead sole | Eastern and Western GOA | all | 10 and 7 (2006) 13 and 7 (2007)
Shallow-water flatfish | Eastern GOA | all | 31
Arrowtooth flounder | Eastern and Western GOA | all | 10 and 17
Northern rockfish | Western GOA | all | 0
Pelagic shelf rockfish | entire GOA | all | 0 (W), 0 (©), 5(E)
Demersal shelf rockfish | SEO District | all | 1

Section 680.22 provides for management of non-AFA crab vessel groundfish harvest limits using directed fishing closures in accordance with § 680.22(e)(2) and (3). The Regional Administrator has determined that, in addition to the closures listed above in Table 17, many of the non-AFA crab vessel sideboard limits listed in Tables 15 and 16 are necessary as incidental catch to support other anticipated groundfish fisheries for the 2006 and 2007 fishing years. Pursuant to § 680.22(e)(2), the Regional Administrator establishes the directed fishing allowances for all species and species groups in Tables 15 and 16 as zero, with the exception of Pacific cod in the Western and Central GOA. Therefore, in accordance with § 680.22(e)(3), NMFS is prohibiting directed fishing by non-AFA crab vessels in the GOA for all species and specified areas set out in Tables 15 and 16, with the exception of Pacific cod in the Western and Central GOA. These closures will remain in effect through 2400 hrs, A.l.t., December 31, 2007.

Under authority of the final 2005 and 2006 harvest specifications (70 FR 8958, February 24, 2005), pollock fishing opened on January 20, 2006, for amounts specified in that notice. NMFS has since closed Statistical Area 610 to directed fishing for pollock effective 1200 hrs, A.l.t., January 22, 2006 (71 FR 4311, January 26, 2006) and 1200 hrs, A.l.t., January 26, 2006, through January 27, 2006 (71 FR 5014, January 31, 2006). Also, NMFS has closed Statistical Area 630 to directed fishing for pollock effective 1200 hours, A.l.t, February 15, 2006, through 1200 hrs, A.l.t., March 10, 2006 (71 FR 8993, February 22, 2006). NMFS has prohibited directed fishing for Pacific cod by vessels catching Pacific cod for processing by the offshore component of the Western Regulatory Area of the GOA, effective 1200 hrs, A.l.t., February 19, 2006, through 1200 hrs, A.l.t., September 1, 2006, (71 FR 9476, February 24, 2006). NMFS prohibited directed fishing for Pacific cod by vessels catching Pacific cod for processing by the offshore component of the Central Regulatory Area of the GOS, effective 1200 hrs, A.l.t., February 19, 2006, through 1200 hrs, A.l.t., September 1, 2006 (71 FR 9477, February 24, 2006). NMFS prohibited directed fishing for species that comprise the shallow-water species fishery by vessels using trawl gear in the GOA, effective 1200 hrs, A.l.t., February 23, 2006, through 1200 hrs, A.l.t., April 1, 2006 (published in the Federal Register of February 28, 2006). NMFS opened directed fishing for shallow water species by vessels using trawl gear in the GOA, effective 1200 hrs, A.l.t., February 27, 2006 (published in the Federal Register of March 2, 2006).

These closures supersede the closures announced under the authority of the final 2005 and 2006 harvest specifications (70 FR 8958, February 24, 2005). While these closures are in effect, the maximum retainable amounts at § 679.20(e) and (f) apply at any time during a fishing trip. These closures to directed fishing are in addition to closures and prohibitions found in regulations at 50 CFR part 679. NMFS may implement other closures during the 2006 and 2007 fishing years as necessary for effective conservation and management.

Response to Comments

NMFS received one letter of comment in response to the proposed 2006 and 2007 harvest specifications. This letter contained 7 separate comments that are summarized and responded to below.

Comment 1: The action is a major federal action that has significant effects on the quality of the human environment and requires an Environmental Impact Statement.

Response: NMFS prepared an EA for the 2006 and 2007 harvest specifications. The analysis in the EA supports a finding of no significant impact on the human environment as a result of the harvest specifications. Therefore, an environmental impact statement is not required under section 102(2)(c) of the National Environmental Policy Act or its implementing regulations.

Comment 2: The “Ecosystem Considerations” report is not explicitly integrated into the process of setting ABC and TAC. NMFS should also integrate directly ecosystem needs into harvest specifications through development and implementation of Ecologically Sustainable Yield (ESY).

Response: ESY is defined as “the yield an ecosystem can sustain without shifting to an undesirable state” (Zabel et al. 2003). This is a qualitative concept because judging an “undesirable state” may vary widely. ESY requires simultaneously considering the impacts of all harvested species on an ecosystem and quantifying important qualities such as community stability or resilience. This poses challenges due to uncertainty and indeterminacy inherent in ecological systems and the fact that ecosystems respond to natural processes in ways that are not well understood.

The NMFS and the Council, in essence, fulfill determinations of the ESYs through the development and evaluation of the SAFE report (see ADDRESSES) and during implementation of inseason multispecies fisheries management practices. The SAFE report evaluates the status and trends of the entire ecosystem. Also, the SAFE report responds to the stated ecosystem-based management goals of the Council. These goals are: (1) Maintain biodiversity consistent with natural evolutionary and ecological processes, including dynamic change and variability; (2) Maintain and restore habitats essential for fish and their prey; (3) Maintain system sustainability and sustainable yields for human consumption and nonextractive uses; and (4) Maintain the concept that humans are components of the ecosystem.

All groundfish species are currently managed for their impacts from a conservation and ecosystem perspective. As an example, the recent development of the GOA skate fishery led to prompt management action to provide appropriate protection of this species assemblage. Currently, there are ABC levels specified for the two main species of skates over three different areas. This effectively has prohibited the further development of a directed fishery for skates until more information is available to ensure appropriate conservation measures are taken. Zabel, R. W., C. J. Harvey, S. L. Katz, T. P. Good, and P. S. Levin. 2003. Ecologically stainable yield. American Scientist 91: 150-157.

Comment 3: Catch levels for North Pacific rockfish are being set without sufficient precaution. They are based on inadequate and highly variable biomass estimates, without regard to stock structure and without proper consideration of life history characteristics such as rockfish longevity, late age at sexual maturity, and the increased reproductive success of older, more fecund female fish.

Response: Multiple layers of precaution are built into catch levels for North Pacific rockfish with age-structured models (Tier 3). For example, GOA Pacific ocean perch are assigned an FABC at F40%. Bayesian spawner-recruit analysis showed that maximum sustainable yield (MSY) was attained at approximately F29%. While the target fishing mortality is already well below MSY, the Eastern GOA is closed to trawling, further reducing fishing mortality by 10 percent. Another precautionary layer is to employ a catchability coefficient near two. This means that the fishing mortality is applied to a biomass estimate that is about half of the biomass estimate that is derived from the trawl survey. The age-structured modeling approach integrates a variety of information to compensate for variable survey results.

Catch levels for North Pacific rockfish with survey-biomass based models (Tier 5) are based on highly variable biomass estimates. This variability is stabilized by using a 3-survey moving average. The catch levels for these species are set by applying a fishing mortality of 75 percent of the natural mortality to the average exploitable biomass. These fishing mortalities are precautionary in that they are theoretically at least 25 percent below MSY fishing mortality and are based on very low natural mortalities (e.g., 0.02-0.07).

At this time, stock structure information has not been synthesized directly into the stock assessments because of the lack of definitive structure and sufficient data to model spatially explicit populations. However, life history characteristics are explicitly accounted for in both the fishing mortality estimates in age-structured models (Tier 3) and in survey-biomass based estimates (Tier 5). In age-structured models, age at maturity is defined specific to each species and longevity is incorporated in the natural mortality estimates and the age data. For survey biomass based models, this information is not as well known, but the low natural mortality estimates for rockfish species is based on their maximum age. Recent research of black rockfish off the West Coast shows evidence of older, mature fish being more fecund, or producing higher quality larvae, than younger mature fish. Research is in progress to attempt to answer this question for Alaskan rockfish.

Comment 4: Signs of stress in North Pacific rockfish populations include age truncation, localized depletion, and potential overfishing.

Response: Some age truncation will occur if a stock is fished. Only GOA Pacific ocean perch showed more age truncation than was expected at equilibrium. However, this population is not at equilibrium and has increased substantially in the last decade. Therefore, the observed age truncation may be from fishing, but it also may be from the recent strength of recruitment substantially increasing the proportion of younger fish.

Three species of rockfish have shown localized depletion in some years and areas. Most of the significant depletions did not occur in the same place or in consecutive years. The densities were as high as they were in the previous year when fishing resumed, implying migration and replenishment when depletions did occur in the same place or in consecutive years.

Recently, North Pacific rockfish species have not been subject to consistent overfishing.

Comment 5: NMFS should support the proposal by Goodman et al. in the review of the North Pacific harvest strategy to shift to F50% to F60%-based harvest rates as one step in sustainable rockfish management.

Response: There has been no evidence that Alaskan rockfish need to have a more conservative spawning output per recruit (SPR) rate than other species. Goodman et al. presented evidence based on less productive West Coast rockfish. The fishing mortality derived from an F40% strategy is much lower for rockfish with their sensitive life history characteristics than the fishing mortalities derived from the same harvest strategy for other species. This is due to the late maturity, slow growth, and low natural mortality of rockfish. For example, the fishing mortality rate for rougheye rockfish is about one tenth the fishing mortality rate for Pacific cod. Several analyses for Pacific ocean perch show F40% to be relatively conservative for rockfish.

Comment 6: We are particularly concerned with recommendations to increase TAC for rockfish in the GOA. The slope rockfish TAC is recommended to increase 45 percent in 2006. This level of increase is not sufficiently precautionary given that we have no point of reference for the populations of many species within the management complexes.

Response: The 2005 GOA survey showed large increases in rockfish abundance in the Western and Central GOA, particularly for harlequin rockfish, sharpchin rockfish, and redstripe rockfish. In the three-year moving average, a year of relatively low slope rockfish abundance (1999) was removed and replaced by a relatively high year of slope rockfish abundance. The overall slope rockfish ABC increased by only 10 percent. The associated TAC increased more than 10 percent because of increases in the Western and Central GOA to a higher ABC, while the Eastern GOA TAC remained at 200 mt. However, the recommended TAC is still far below the GOA wide ABC recommended in the stock assessment. None of the species in the slope rockfish complex are directly targeted and it is unlikely that they will be harvested disproportionately to their abundance. Yet, the regionally apportioned TACs have been exceeded in the past, which may be a conservation concern or it may be driven by poor survey biomass estimates. The stock assessment authors for slope rockfish are researching alternative survey weighting schemes to attempt to prevent large changes in ABCs and resultant TACs, because of highly variable survey estimates.

Comment 7: The TAC for other rockfish in the Gulf including shortraker rockfish, pelagic shelf rockfish, and thornyhead rockfish are also recommended to increase. NMFS should proceed with caution if it authorizes any increase in rockfish harvest, given large uncertainties in biomass and population structure, and past over-harvest of regionally apportioned TACs.

Response: The 2005 GOA survey also showed substantial increases for species with age-structured models. Northern rockfish and dusky rockfish biomass estimates more than doubled from the previous survey, however, because the models use many data sources, these biennial variations in survey abundance are smoothed into modest changes in ABC.

The stock assessment authors concur that there is a lack of knowledge about many of the slope rockfish species in terms of distribution and stock structure. Therefore, catches will be monitored closely to ensure that these regional TACs are not exceeded.

Small Entity Compliance Guide

The following information is a plain language guide to assist small entities in complying with this final rule as required by the Small Business Regulatory Enforcement Fairness Act of 1996. This final rule's primary management measures are to announce 2006 and 2007 final harvest specifications and prohibited species bycatch allowances for the groundfish fishery of the GOA. This action is necessary to establish harvest limits and associated management measures for groundfish during the 2006 and 2007 fishing years and to accomplish the goals and objectives of the FMP. This action affects all fishermen who participate in the GOA fishery. The specific amounts of OFL, ABC, TAC, and PSC amounts are provided in tabular form to assist the reader. NMFS will announce closures of directed fishing in the Federal Register and in information bulletins released by the Alaska Region. Affected fishermen should keep themselves informed of such closures.

Classification

This action is authorized under § 679.20 and is exempt from review under Executive Order 12866.

A Final Regulatory Flexibility Analysis (FRFA) was prepared to evaluate the impacts of the 2006 and 2007 harvest level specifications on directly regulated small entities. This FRFA is intended to meet the statutory requirements of the Regulatory Flexibility Act (RFA).

The proposed rule for the harvest specifications was published in the Federal Register on December 16, 2005 (70 FR 74739). An Initial Regulatory Flexibility Analysis (IRFA) was prepared for the proposed rule and was described in the classifications section of the preamble to that rule. Copies of the IRFA prepared for this action are available from NMFS, Alaska Region (see ADDRESSES). The public comment period ended on January 17, 2006. No comments were received on the IRFA or regarding the economic impacts of this rule.

The 2006 and 2007 harvest specifications establish harvest limits for the groundfish species and species groups in the GOA. This action is necessary to allow fishing in 2006 and 2007. About 946 small catcher vessels and 29 small catcher/processors fishing off of Alaska may be directly regulated by the harvest specifications. This regulation does not impose new recordkeeping or reporting requirements on the regulated small entities.

The FRFA examined the impacts of the preferred alternative on small entities within fisheries that might be affected by the harvest specifications. The FRFA identified the potential for adverse impacts of the preferred alternative on small fishing operations harvesting pollock, Pacific cod, and sablefish in the GOA.

There were an estimated 62 directly regulated small entities in the GOA pollock sector. These small operations were expected to see their revenues from all sources (including fishing on other groundfish and non-groundfish species off of Alaska) decline by about 1 percent in 2006 and 5 percent in 2007, as compared to 2005. There were an estimated 488 directly regulated small entities in the GOA Pacific cod sector. These small operations were expected to see their revenues from all sources increase from 2005 to 2006, but to decline by about 3 percent from 2005 to 2007. There were an estimated 392 directly regulated small entities in the GOA sablefish sector. These small operations were expected to see their revenues from all sources decline by about 3 percent between 2005 and 2006, and by about 9 percent between 2005 and 2007.

Although the preferred alternative had adverse impacts on some classes of small entities, as compared to the fishery in the preceding year, alternatives that had smaller adverse impacts were precluded by biological management concerns. Four alternatives were evaluated in addition to the preferred alternative. Alternative 1 set TACs equal to the maxFABC fishing rate. Alternative 1 was associated with high TACs, high revenues, and TACs that exceeded the GOA OY. Alternative 2, the preferred alternative, set TACs to produce the fishing rates recommended by the Council on the basis of Plan Team, SSC, and AP recommendations and public comment. Alternative 3 set TACs to produce fishing rates equal to half the maxFABC, and Alternative 4 set TACs to produce fishing rates equal to the last five years' average fishing rate. Alternative 5 set TACs equal to zero.

GOA Pacific cod and pollock fishermen would have had larger gross revenues under Alternative 1 than under the preferred alternative. GOA sablefish fishermen would not have had larger gross revenues under any alternative. However, for each species, the Council recommended the highest TAC levels it could, consistent with the ABC recommendations of the GOA Plan Team and the SSC. The ABCs are recommended by the Council on the basis of the biological recommendations made to it by its Plan Teams and its SSC. Higher TACs would not be consistent with prudent biological management of the fishery. The Pacific cod TAC is actually less than the ABC, but only to accommodate State of Alaska (State) fisheries conducted for Pacific cod under its own guideline harvest levels. To protect the resource, the sum of the State's GHL and the Federal TAC are not allowed to exceed the ABC. Thus, this TAC also has been set as high as possible while still protecting the biological health of the stock. The Pacific cod federal TACs and State GHLs under Alternative 1 would have exceeded the ABCs. TACs for all three species were higher under Alternative 2 than under Alternatives 3, 4, or 5.

Under the provisions of 5 U.S.C. 553(d)(3), an agency can waive a delay in the effective date of a substantive rule for good cause. The current allocation for GOA Pacific cod under the authority of the final 2005 and 2006 harvest specifications (70 FR 8958, February 24, 2005) is lower (44,433 mt) than the allocation under the 2006 and 2007 final harvest specifications (52,264 mt), which is based on the best scientific information available. Because the allocation is divided into seasonal amounts, the first season (A season) will close earlier than necessary unless the delay in the effective date is waived and the 2006 and 2007 final harvest specifications become effective upon publication. The GOA Pacific cod fishery is the second largest fishery in the GOA after pollock and all gear types fish in the Pacific cod fisheries. Early closures results in a disruption within the fishing industry and the potential for regulatory discards. The 2006 and 2007 final harvest specifications establish increased Pacific cod TACs to provide continued directed fishing for species that would otherwise be prohibited under the 2005 and 2006 harvest specifications. These final harvest specifications were developed as quickly as possible, given Council consideration and recommendations in December 2005.

Also, the current allocation for GOA pollock under the authority of the final 2005 and 2006 harvest specifications (70 FR 8958, February 24, 2005) is higher (91,910 mt) than the allocation under the 2006 and 2007 final harvest specifications (86,547 mt). Unless this delay is waived, the A season pollock fisheries will overharvest allocations based on the best scientific information available that was based incorporated into the 2006 and 2007 final harvest specifications.

Additionally, if the final harvest specifications are not effective by March 5, 2006, which is the start of the Pacific halibut season as specified by the IPHC, the hook-and-line sablefish fishery will not begin concurrently with the Pacific halibut season. This would cause sablefish that is caught with Pacific halibut to be discarded, as both longline sablefish and Pacific halibut are managed under the same IFQ program.

Finally, the 2006 and 2007 final harvest specifications implements the groundfish sideboards and sideboard closures that restrict the owners of vessels with a history of participation in the Bering Sea snow crab fishery from using the increased flexibility provided by the Crab Rationalization Program to expand their level of participation in GOA groundfish fisheries. Until the 2006 and 2007 final harvest specifications are effective no sideboard restrictions or closures apply to these vessels.

Authority: 16 U.S.C. 773 et seq.; 1540(f); 1801 et seq., 1851 note; and 3631 et seq.

Dated: February 28, 2006.
James W. Balsiger,
Acting Deputy Assistant Administrator for Regulatory Programs, National Marine Fisheries Service.

[FR Doc. 06-1994 Filed 3-2-06; 8:45 am]

BILLING CODE 3510-22-P